DEPARTMENT OF ENERGY

Federal Energy Regulatory Commission

Sunshine Act Meeting, Notice

August 29, 2002.

The following Notice of Meeting is Published Pursuant to Section 3(A) of the Government in the Sunshine Act (Pub. L. No. 94-409), 5 U.S.C. 552B:

Agency Holding Meeting: Federal Energy Regulatory Commission.

Date and Time: September 5, 2002, 10 a.m.

Place: Room 2C, 888 First Street, NE., Washington, DC 20426.

Status: Open.

Matters to be Considered: Agenda. * Note—Items listed on the agenda may be deleted without further notice.

Contact Person for More Information: Magalie R. Salas, Secretary, Telephone (202) 502-8400. This is a list of matters to be Considered by the Commission. It does not include a listing of all papers relevant to the items on the agenda; However, all public documents may be examined in the Reference and Information center.

803rd—Meeting September 5, 2002, Regular Meeting, 10 a.m.

Miscellaneous Agenda

M-1.

Docket# RM02-4,000, Treatment of Critical Infrastructure Information

Other#s PL02-1,000, Treatment of Previously Public Documents

Markets, Tariffs and Rates—Electric

E-1.

Omitted

E-2.

Omitted

E-3.

Omitted

E-4.

Omitted

E-5.

Docket# ER02-2294, 000, New England Power Pool

Other#s ER02-1618, 001, New England Power Pool, ER02-1618, 002 New England Power Pool

E-6.

Omitted

E-7.

Omitted

E-8.

Omitted

E-9.

Omitted

E-10.

Omitted

E-11.

Omitted

E-12.

Omitted

E-13.

Docket# ER02-2008, 000, Duke Energy Corporation

Other#s ER02-2008, 001, Duke Energy Corporation

E-14.

Docket# ER02-2123, 001 Entergy Services, Inc

E-15.

Omitted

E-16.

Omitted

E-17.

Omitted

E-18.

Docket# ER02-488, 002, Midwest Independent Transmission System Operator, Inc.

Other#s ER02-488, 001, Midwest Independent Transmission System Operator, Inc.

E-19.

Omitted

E-20.

Omitted

E-21.

Omitted

E-22.

Omitted

E-23.

Omitted

E-24.

Docket# ER01-2736, 000, Niagara Mohawk Power Corporation

Other#s ER01-2803, 000, Niagara Mohawk Power Corporation

E-25.

Omitted

E-26.

Omitted

E-27.

Docket# ER01-3001, 003, New York Independent System Operator, Inc.

E-28.

Omitted

E-29.

Docket# EC01-130, 000, American Electric Power Service Corp.

Other#s ER01-2668, 000, American Electric Power Company, Inc.

E-30.

Omitted

E-31.

Omitted

E-32.

Omitted

E-33.

Omitted

E-34.

Docket# EL00-95, 065, San Diego Gas & Electric Company v. Sellers of Energy and Ancillary Services into Markets Operated by the California Independent System Operator Corporation and the California Power Exchange

Other#s EL00-98, 054, Investigation of Practices of the California Independent System Operator Corporation and the California Power Exchange

E-35.

Docket# ER02-430, 001, Southern Companies Services, Inc.

Other#s ER02-430, 002, Southern Companies Services, Inc.

E-36.

Omitted

E-37

Omitted

E-38.

Omitted

E-39.

Omitted

E-40.

Docket# EL92-33, 008, Barton Village, Inc., Village of Enosburg Falls Water & Light Department, Village of Orleans, and Swanton Village, Vermont v. Citizens Utilities Company

E-41.

Omitted

E-42.

Docket# EL02-73, 000, Access Energy Corporation

E-43.

Omitted

E-44.

Omitted

E-45.

Omitted

E-46.

Omitted

E-47

Docket# EL00-66, 000, Louisiana Public Service Commission and the Council of the City of New Orleans v. Entergy Corporation

Other#s ER00-2854, 000, Entergy Services, Inc., EL95-33, 002, Louisiana Public Service Commission v. Entergy Services, Inc.

E-48.

Docket# EL99-44, 000, Arizona Public Service Company v. Idaho Power Company

Other#s EL99-44, 003, Arizona Public Service Company v. Idaho Power Company, EL99-44, 005, Arizona Public Service Company v. Idaho Power Company

E-49.

Docket# ER01-1305, 000, Westar Generating, Inc.

Other#s ER01-1305, 001, Westar Generating, Inc., ER01-1305, 002, Westar Generating, Inc.

E-50.

Omitted

E-51.

Omitted

E-52.

Omitted

E-53.

Omitted

E-54.

Omitted

E-55.

Omitted

E-56.

Omitted

E-57.

Omitted

E-58.

Omitted

E-59.

Docket# EL00-62, 047, ISO New England Inc.

Other#s EL00-62, 048, ISO New England Inc., EL00-62, 049, ISO New England Inc., ER98-3853, 014, New England Power Pool, ER98-3853, 015, New England Power Pool, ER98-3853, 016, New England Power Pool

E-60.

Omitted

E-61.

Omitted

E-62.

Omitted

E-63.

Docket# ER02-1705, 000, Southwest Power Pool, Inc.

Other#s ER02-1705, 001, Southwest Power Pool, Inc.

E-64.

Docket# ER02-2313, 000, Southwestern Electric Power Company

E-65.

Omitted

E-66.

Omitted

Markets, Tariffs and Rates—Gas

G-1.

Omitted

G-2.

Omitted

G-3.

Omitted

G-4.

Omitted

G-5.

Omitted

G-6.

Omitted

G-7.

Omitted

G-8.

Docket# RP02-309, 000, Sunoco, Inc. (R&M)

G-9.

Docket# RP02-99, 000, Shell Offshore Inc.

Other#s RP01-245, 000, Transcontinental Gas Pipe Line Corporation, RP02-144, 000, Superior Natural Gas Corporation

G-10.

Docket# RP99-485, 000, Enbridge Pipelines (KPC)

G-11.

Omitted

G-12.

Omitted

G-13.

Omitted

G-14.

Omitted

G-15.

Omitted

G-16.

Omitted

G-17.

Omitted

G-18.

Omitted

G-19.

Omitted

G-20.

Omitted

G-21.

Omitted

G-22.

Omitted

G-23.

Omitted

G-24.

Omitted

G-25.

Omitted

G-26.

Omitted

G-27.

Omitted

G-28.

Docket# RP00-632, 010, Dominion Transmission, Inc.

Energy Projects—Hydro

H-1.

Omitted

H-2.

Omitted

H-3.

Omitted

H-4.

Omitted

H-5.

Omitted

Energy Projects—Certificates

C-1.

Omitted

C-2.

Omitted

C-3.

Docket# CP02-27, 001, Florida Gas Transmission Company

C-4.

Omitted

C-5.

Omitted

C-6.

Docket# CP01-439, 001, Columbia Gas Transmission Corporation

C-7.

Omitted

C-8.

Docket# CP02-161, 000, Ohio Valley Hub L.L.C.

Other#S PR02-15, 000, Ohio Valley Hub L.L.C.

Magalie R. Salas,
Secretary.

[FR Doc. 02-22665 Filed 9-4-02; 8:45 am]

BILLING CODE 6717-01-P